DEPARTMENT OF COMMERCE

National Oceanic and Atmospheric Administration

[RTID 0648-XA325]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a five-day webinar meeting to consider actions affecting the Gulf of Mexico fisheries in the exclusive economic zone (EEZ).

DATES: The webinar will convene Monday, August 24 through Friday, August 28, 2020, from 9 a.m. until 4 p.m., EDT, each day.

ADDRESSES: The meeting will take place via webinar; you may register for the meeting at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, August 24, 2020; 9 a.m.-9:30 a.m.

The meeting will begin in a CLOSED SESSION of the FULL COUNCIL to make final selection of members to the Coastal Migratory Pelagics and Red Drum Advisory Panels; and other internal administrative matters.

Monday, August 24, 2020; 10 a.m.-4 p.m.

The meeting will open to the general public mid-morning (approximately 10 a.m.) beginning with the Administrative/Budget Committee review and approval of the Funded 2020 Budget. The Data Collection Committee will review potential regulatory changes from Commercial Electronic Logbook Program Implementation; receive a briefing on Shrimp Electronic Logbook Program and an update on Southeast For-hire Electronic Reporting (SEFHIER) Program. The Sustainable Fisheries Committee will review Aquaculture Aspects of Executive Order 13921, and receive recommendations and public comments on Executive Order 13921; review Public Hearing Draft Amendment Reef Fish 48/Red Drum 5: Status Determination Criteria and Optimum Yield for reef Fish and Red Drum; and receive a presentation on Depredation by Marine Mammals.

Tuesday, August 25, 2020; 9 a.m.-4 p.m.

The Reef Fish Committee will review the Reef Fish Landings; discuss the Fishing Industry Impacts Due to COVID-19 and Potential Emergency Rule Requests; and, receive status of Gulf State Recreational Data Collection Programs and 2020 Red Snapper Seasons. The Committee will receive an update from the Marine Recreational Information Program (MRIP) Fishing Effort Survey Calibration Workshop; receive a meeting summary from the August 5, 2020 MRIP Red Snapper State Data Calibration Meeting and SSC recommendations.

Wednesday, August 26, 2020; 9 a.m.-4 p.m.

The Reef Fish Committee will reconvene to review Revised Draft Amendment 53: Red Grouper Catch Limits and Sector Allocations, Draft Framework Action: Modification of the Gulf of Mexico Lane Snapper Annual Catch Limit, and SEDAR 64: Southeastern U.S. Yellowtail Snapper Stock Assessment. The Committee will also review Public Hearing Draft Amendment 36B: Modifications to Commercial IFQ Programs, and any remaining items from the SSC Agenda. The Gulf Southeast Data Assessment and Review (SEDAR) Committee will receive update on Operational Stock Assessment Process and SSC Recommendations; and discuss the Timing and Use of Interim Analyses for Management.

Thursday, August 27, 2020; 9 a.m.-4 p.m.

The Mackerel Committee will receive an update on Coastal Migratory Pelagics Landings; and, review of SEDAR 28 Update: Gulf of Mexico Migratory Group Cobia Stock Assessment. The Ecosystem Committee will receive an update on Gulf of Mexico Fishery Ecosystem Plan and the Southeast Regional Efforts to Build a Foundation for the Fishery Ecosystem Plan.

Full Council will convene after lunch with a Call to Order, Announcements, and Introductions; Induction of New Council Members; Adoption of Agenda and Approval of Minutes. The Council will hold public comment testimony beginning at approximately 1:20 p.m. until 3:30 p.m. on Comments on Executive Order 13921; and, open testimony on other fishery issues or concerns. Public comment may begin earlier than 1:20 p.m. EDT but will not conclude before that time. Persons wishing to give public testimony must register on the Council website before the start of the public comment period at 1:20 p.m. EDT.

Following Public Comment period, the Council will begin to receive committee reports from Administrative/Budget and the Coastal Migratory Pelagics and Red Drum Advisory Panel (AP) Appointments.

Friday, August 28, 2020; 9 a.m.-4 p.m.

The Council will continue to receive committee reports from Gulf SEDAR, Data Collection, Sustainable Fisheries, Ecosystem, Mackerel, and Reef Fish Committees. The Council will receive updates from the following supporting agencies: Texas Law Enforcement Efforts; South Atlantic Fishery Management Council; NOAA Office of Law Enforcement (OLE); Gulf States Marine Fisheries Commission; U.S. Coast Guard; U.S. Fish and Wildlife Service; and Department of State.

The Council will discuss Other Business item; and, hold an election for Chair and Vice Chair.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under section 305(c) of the Magnuson-Stevens Act, provided that the public has been notified of the Council's intent to take final action to address the emergency.

Authority: 16 U.S.C. 1801 et seq.

Dated: August 4, 2020.
Tracey L. Thompson,
Acting Deputy Director, Office of Sustainable Fisheries, National Marine Fisheries Service.

[FR Doc. 2020-17286 Filed 8-6-20; 8:45 am]

BILLING CODE 3510-22-P